DEPARTMENT OF HOUSING AND URBAN DEVELOPMENT

[Docket No. FR-7050-N-49]

30-Day Notice of Proposed Information Collection: Family Options Study 12-Year Follow-Up: Survey Data Collection—Phase II; OMB Control No.: 2528-0259

AGENCY: Office of Policy Development and Research, Chief Data Officer, HUD.

ACTION: Notice.

SUMMARY: The proposed information collection requirement described below will be submitted to the Office of Management and Budget (OMB) for review, as required by the Paperwork Reduction Act. The Department is soliciting public comments on the subject proposal.

DATES: Comments Due Date: October 12, 2022.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov. Persons with hearing or speech impairments may access this number through TTY by calling the toll-free Federal Relay Service at (800) 877-8339.

FOR FURTHER INFORMATION CONTACT: Anna P. Guido, Reports Management Officer, REE, Department of Housing and Urban Development, 451 7th Street SW, Washington, DC 20410; email her at Anna.P.Guido@hud.gov or telephone 202-402-5535. This is not a toll-free number. Copies of available documents submitted to OMB may be obtained from Ms. Guido.

SUPPLEMENTARY INFORMATION: This notice informs the public that HUD has submitted to OMB a request for approval of the information collection described in section A. The Federal Register notice that solicited public comment on the information collection for a period of 60 days was published on April 26, 2022, at 87 FR 24572.

A. Overview of Information Collection

Title of Information Collection: Family Options Study 12-Year Follow-up: Survey Data Collection—Phase II.

OMB Approval Number: 2528-0259.

Type of Request: Revision of a currently approved collection.

Form Number: N/A.

Description of the Need for the Information and Proposed Use: The purpose of this proposed information collection is to administer a 12-Year Follow-up Survey with the families that enrolled in the U.S. Department of Housing and Urban Development's (HUD) Family Options Study between September 2010 and January 2012.

The Family Options Study is a multi-site experiment designed to test the impacts of different housing and service interventions on homeless families in five key domains: housing stability, family preservation, adult well-being, child well-being, and self-sufficiency. Both the design and the scale of the study provide a strong basis for conclusions about the relative impacts of the interventions over time, and data collected at two previous points in time, twenty (20) months after random assignment and thirty-seven (37) months after random assignment, yielded powerful evidence regarding the positive impact of providing a non-time-limited housing subsidy to a family experiencing homelessness. It is possible, though, that some effects of the various interventions might change over time or take longer to emerge, particularly for child well-being. Therefore, HUD plans to conduct a follow up survey of study families roughly twelve years after enrollment into the study. The 12-Year Follow-up Survey will attempt to collect information from three separate samples: (1) the 2,241 heads of household who originally enrolled in the study, (2) a sample of 2,220 young children between the ages of 10-17 who currently reside with the head of households, and (3) a new sample of 1,831 “adult children” who consist of the young adults who were minor children during the base study period, but who have aged into adulthood over the past twelve years.

Annualized Burden Table
Information collection | Number of respondents | Frequency of response | Responses per annum | Burden hour per response | Annual burden hours | Hourly cost per response | Cost
Adult Head of Household Survey and Supporting Materials
Adult Head of Household Advance Letter (Appendix A) | 2,241 | 1 | 2,241 | .05 | 112.05 | $10.15 | $1,137.31
Adult Head of Household Outreach E-mail (Appendix B) | 2,241 | 1 | 2,241 | .05 | 112.05 | 10.15 | 1,137.31
Adult Head of Household Outreach Flyer (Appendix C) | 2,241 | 1 | 2,241 | .05 | 112.05 | 10.15 | 1,137.31
Consent to Participate—Adult Respondent (Appendix D) | 2,241 | 1 | 2,241 | .17 | 388.97 | 10.15 | 3,866.85
Adult Head of Household Survey (Appendix E) | 2,241 | 1 | 2,241 | 1 | 2,241 | 10.15 | 22,746.15
Child (10-17) Survey and Supporting Materials
Parent Permission Form (Appendix F) | 2,241 | 1 | 2,241 | .17 | 380.97 | 10.15 | 3,866.85
Child Assent Form (Appendix G) | 2,220 | 1 | 2,220 | .17 | 377.4 | NA |
Child Survey (Appendix H) | 2,220 | 1 | 2,220 | .5 | 1,110 | NA |
Adult Child (18-30) Survey and Supporting Materials
Adult Child Enrollment Call (Appendix I) | 1,831 | 1 | 1,831 | .17 | 311.27 | 10.15 | 3,159.70
Consent to Participate—Adult Child (Appendix J) | 1,831 | 1 | 1,831 | .17 | 311.27 | 10.15 | 3,159.70
Adult Child Information Release Form (Appendix K) | 1,831 | 1 | 1,831 | .17 | 311.27 | 10.15 | 3,159.70
Adult Child E-mail Invitation (Appendix L) | 1,831 | 1 | 1,831 | .05 | 91.55 | 10.15 | 929.23
Adult Child Survey (Appendix M) | 1,831 | 1 | 1,831 | .25 | 457.75 | 10.15 | 4,646.16
Total |  |  |  |  | 6,309.60 |  | 48,946.56

B. Solicitation of Public Comment

This notice is soliciting comments from members of the public and affected parties concerning the collection of information described in section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Anna P. Guido,
Department Reports Management Officer, Office of the Chief Data Officer.

[FR Doc. 2022-19595 Filed 9-9-22; 8:45 am]

BILLING CODE 4210-67-P